FEDERAL COMMUNICATIONS COMMISSION

Public Information Collections Approved By Office of Management and Budget

April 10, 2004.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW., Washington DC 20554, (202) 418-1359 or via the Internet at plaurenz@fcc.gov.

SUPPLEMENTARY INFORMATION: OMB Control No.: 3060-0895.

OMB Approval Date: 3/26/2004.

Expiration Date: 3/31/2007.

Title: Numbering Resource Optimization, CC Docket No. 99-200.

Form No.: FCC Form 502.

Estimated Annual Burden: 5,400 responses; 181,890 total annual burden hours; 33-34 hours average per respondent.

Needs and Uses: Carriers that receive numbering resources from the North American Numbering Plan (NANP) Administrator or that receive numbering resources from the Pooling Administrator in thousand-blocks must report forecast and utilization data semi-annually. These carriers are also required to maintain detailed internal records of their number usage. Carriers must file applications for initial and growth numbering resources. The information will be used by the FCC, state regulatory commissions, and the NANP Adminstrator to monitor numbering resource utilization and to project the date of area code and NANP exhaust.

OMB Control No.: 3060-0511.

OMB Approval Date: 4/16/2004.

Expiration Date: 4/30/2007.

Title: ARMIS Access Report.

Form No.: FCC 43-04.

Estimated Annual Burden: 84 responses; 12,852 total annual burden hours; 153 hours per respondent.

Needs and Uses: The Access Report is needed to administer the Commission's accounting, jurisdictional separations and access charge rule; to analyze revenue requirements and rates of return, and to collect financial data from Tier 1 incumbent local exchange carriers.

OMB Control No.: 3060-0410.

OMB Approval Date: 4/16/2004.

Expiration Date: 4/30/2007.

Title: Forecast of Investment Usage Report and Actual Usage of Investment Report.

Form No.: FCC 495A and FCC 499B.

Estimated Annual Burden: 192 responses; 7,680 total annual burden hours; 40 hours per respondent.

Needs and Uses: The Forecast of Investment Usage and Actural Usage of Investment Reports are needed to detect and correct forcast errors that could lead to significant misallocation of network plant between regulated and nonregulated activities. FCC's purpose is to protect the regulated ratepayer from subsidizing the nonregulated activities of rate regulated telephone companies. Only large ILECs file these reports.

OMB Control No.: 3060-1046.

OMB Approval Date: 5/05/2004.

Expiration Date: 5/31/2007.

Title: Implementation of the Pay Telephone Reclassification and Compensation Provisions of the Telecommunication Act of 1996, CC Docket No. 96-128, Report and Order.

Form No.: N/A.

Estimated Annual Burden: 4,854 responses; 485,400 total annual burden hours; 100 hours per respondent.

Needs and Uses: The Commission issued a Report and Order (CC Docket 96-128/ FCC 03-235). In this proceeding, final rules were adopted that altered the previous payphone compensation rules. The new rules place the liability to compensate payphone service providers (PSPs) for payphone-originated calls on the facilities-based long distance carriers from whose switches such calls are completed. The new rules were not put in effect immediately to allow industry time to prepare for implementation of the new rules. Accordingly, the Order initially adopted interim rules until the new rules become effective. The interim rules received OMB approval as of 11/14/2003 and are currently in effect. The Commission has now received OMB approval of the final rules. The interim rules will be vacated and the new rules will go into effect on July 1, 2004.

Federal Communications Commission.
Marlene H. Dortch,
Secretary.

[FR Doc. 04-11010 Filed 5-13-04; 8:45 am]

BILLING CODE 6712-01-P